DEPARTMENT OF JUSTICE

Notice of Lodging of Partial Consent Decree Under the Comprehensive Environmental Response, Compensation, and Liability Act of 1980, as Amended

Consistent with Departmental policy, 28 CFR 50.7, 38 FR 19029, and 42 U.S.C. 9622(d), notice is hereby given that on February 7, 2002, a proposed Partial Consent Decree (“Decree”) in United States of America v. AlliedSignal Inc., et al., Civil Action No. 95-CV-0950-C(Sc), and United States of America v. Niagara Frontier Transportation Authority, Inc., et al., Civil Action No. 96-CV-0219C(Sc), was lodged with the United States District Court for the Western District of New York.

In these consolidated actions, the United States sought reimbursement of response costs incurred by the United States in connection with clean up activities at the Bern Metals and Universal Iron and Metals Superfund Sites located in the City of Buffalo, Erie County, New York. The proposed Decree will resolve the United States' claims under the Comprehensive Environmental Response, Compensation, and Liability Act (“CERCLA”), 42 U.S.C. 9601 et seq., on behalf of the United States Environmental Protection Agency (“EPA”) against defendants AlliedSignal Inc. (now Honeywell International, Inc.), General Motors Corporation, National Fuel Gas Distribution Corporation, New York State Electric and Gas Corporation, Niagara Frontier Transportation Authority, and Niagara Frontier Transit Metro System, Inc. relating to the Sites. The settling defendants are alleged to be liable as generators, or sucessors to generators, who arranged for the disposal of hazardous substances at the Sites, pursuant to section 107(a)(3) of CERCLA, 42 U.S.C. 9607(a)(3). The Decree provides that the settling defendants will collectively pay $2,745,585 to the United States in reimbursement of EPA's past response costs incurred at the Sites ($2,002,904.62 for EPA's past response costs at the Bern Metals Site and $742,680 for EPA's past response costs at the Universal Iron and Metals Site).

The Department of Justice will receive, for a period of thirty (30) days from the date of this application, comments relating to the Decree. Comments should be addressed to the Assistant Attorney General, Environment and Natural Resources Division, PO Box 7611, U.S. Department of Justice, Washington, DC 20044-7611, and should refer to United States v. AlliedSignal Inc., et al., D.J. Ref. No. 90-11-2-1147, and United States v. Niagara Frontier Transportation Authority, Inc., et al., D.J. Ref. No. 90-11-3-1571.

The Decree may be examined at the Office of the United States Attorney, Western District of New York, 138 Delaware Avenue, Buffalo, New York 14202, and at the U.S. Environmental Protection Agency, Region II, 290 Broadway, New York, New York 10007-1866. A copy of the Decree may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $7.00 (25 cents per page reproduction cost) payable to the U.S. Treasury.

Ronald Gluck,
Assistant Chief, Environmental Enforcement Section, Environmental and Natural Resources Division.

[FR Doc. 02-6279 Filed 3-18-02; 8:45 am]

BILLING CODE 4410-15-M